Proclamation 8507 of April 28, 2010

Workers Memorial Day, 2010

By the President of the United States of America

A Proclamation

This year marks the 40th anniversary of both the Occupational Safety and Health Act and the Federal Coal Mine Health and Safety Act, which promise American workers the right to a safe workplace and require employers to provide safe conditions. Yet, today, we remain too far from fulfilling that promise. On Workers Memorial Day, we remember all those who have died, been injured, or become sick on the job, and we renew our commitment to ensure the safety of American workers.

The families of the 29 coal miners who lost their lives on April 5 in an explosion at the Upper Big Branch Mine in West Virginia are in our thoughts and prayers. We also mourn the loss of 7 workers who died in a refinery explosion in Washington State just days earlier, the 4 workers who died at a power plant in Connecticut earlier this year, and the 11 workers lost in the oil platform explosion off the coast of Louisiana just last week.

Although these large-scale tragedies are appalling, most workplace deaths result from tragedies that claim one life at a time through preventable incidents or disabling disease. Every day, 14 workers are killed in on-the-job incidents, while thousands die each year of work-related disease, and millions are injured or contract an illness. Most die far from the spotlight, unrecognized and unnoticed by all but their families, friends, and co-workers—but they are not forgotten.

The legal right to a safe workplace was won only after countless lives had been lost over decades in workplaces across America, and after a long and bitter fight waged by workers, unions, and public health advocates. Much remains to be done, and my Administration is dedicated to renewing our Nation’s commitment to achieve safe working conditions for all American workers.

Providing safer work environments will take the concerted action of government, businesses, employer associations, unions, community organizations, the scientific and public health communities, and individuals. Today, as we mourn those lost mere weeks ago in the Upper Big Branch Mine and other recent disasters, so do we honor all the men and women who have died on the job. In their memory, we rededicate ourselves to preventing such tragedies, and to securing a safer workplace for every American.

NOW, THEREFORE, I, BARACK OBAMA, President of the United States of America, by virtue of the authority vested in me by the Constitution and the laws of the United States, do hereby proclaim April 28, 2010, as Workers Memorial Day. I call upon all Americans to participate in ceremonies and activities in memory of those who have been killed due to unsafe working conditions.

IN WITNESS WHEREOF, I have hereunto set my hand this twenty-eighth day of April, in the year of our Lord two thousand ten, and of the Independence of the United States of America the two hundred and thirty-fourth.

[FR Doc. 2010-10574

Filed 5-3-10; 8:45 am]

Billing code 3195-W0-P